DEPARTMENT OF TRANSPORTATION

Federal Aviation Administration

14 CFR Part 39

[Docket No. FAA-2021-1066; Project Identifier AD-2021-01189-R; Amendment 39-21859; AD 2021-26-01]

RIN 2120-AA64

Airworthiness Directives; Bell Textron Canada Limited Helicopters

AGENCY: Federal Aviation Administration (FAA), DOT.

ACTION: Final rule; request for comments.

SUMMARY: The FAA is adopting a new airworthiness directive (AD) for certain Bell Textron Canada Limited Model 505 helicopters. This AD was prompted by a report of chafing of the right forward tail rotor (T/R) control cable. This AD requires inspecting the right forward T/R cable and, depending on the results, removing the cable assembly from service. This AD also requires measuring the clearance between the right forward T/R control cable and the roller bracket cut out and, depending on the results, adjusting the height of the roller bracket assembly position. The FAA is issuing this AD to address the unsafe condition on these products.

DATES: This AD is effective December 28, 2021.

The Director of the Federal Register approved the incorporation by reference of a certain publication listed in this AD as of December 28, 2021.

The FAA must receive comments on this AD by January 27, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For Bell service information identified in this final rule, contact Bell Textron Canada Limited, 12,800 Rue de l'Avenir, Mirabel, Quebec J7J 1R4, Canada; telephone 1-450-437-2862 or 1-800-363-8023; fax 1-450-433-0272; email productsupport@bellflight.com; or at https://www.bellflight.com/support/contact-support. For S-TEC Corporation service information identified in this final rule, contact S-TEC Corporation, One S-TEC Way, Mineral Wells Municipal Airport, Mineral Wells, TX 76067; telephone (817) 215-7600. You may view this service information at the FAA, Office of the Regional Counsel, Southwest Region, 10101 Hillwood Pkwy., Room 6N-321, Fort Worth, TX 76177. For information on the availability of this material at the FAA, call (812) 222-5110. Service information that is incorporated by reference is also available at https://www.regulations.gov by searching for and locating Docket No. FAA-2021-1066.

Examining the AD Docket

You may examine the AD docket at https://www.regulations.gov by searching for and locating Docket No. FAA-2021-1066; or in person at Docket Operations between 9 a.m. and 5 p.m., Monday through Friday, except Federal holidays. The AD docket contains this final rule, any comments received, and other information. The street address for the Docket Operations is listed above.

FOR FURTHER INFORMATION CONTACT: Hye Yoon Jang, Aerospace Engineer, Delegation Oversight Section, DSCO Branch, Compliance & Airworthiness Division, FAA, 10101 Hillwood Pkwy., Fort Worth, TX 76177; telephone (817) 222-5190; email hye.yoon.jang@faa.gov.

SUPPLEMENTARY INFORMATION:

Background

The FAA is adopting a new AD for certain serial-numbered Bell Textron Canada Limited Model 505 helicopters that have S-TEC Corporation HeliSAS stability augmentation system and autopilot installed under Supplemental Type Certificate SR09758DS. The FAA received a report that, during an inspection, chafing was discovered on the right forward T/R control cable due to contact with the autopilot yaw servo bracket, which is part of the HeliSAS stability augmentation system. Additional review revealed that the installation instructions did not include a minimum clearance limit between the right forward T/R control cable and the autopilot yaw servo bracket, which allowed the positioning of the autopilot yaw servo bracket such that it did not prevent contact and chafing. Since this discovery, S-TEC revised the installation instructions to specify a minimum cable clearance limit.

This condition, if not addressed, could result in failure of the right forward T/R control cable, loss of T/R control, and subsequent loss of control of the helicopter. The FAA is issuing this AD to address the unsafe condition on these products.

FAA's Determination

The FAA is issuing this AD because the agency has determined the unsafe condition described previously is likely to exist or develop in other products of the same type design.

Related Service Information Under 1 CFR Part 51

The FAA reviewed Bell Alert Service Bulletin 505-21-27, dated October 7, 2021 (ASB). This ASB specifies inspecting the right forward T/R control cable in the area of the roller bracket assembly for any signs of contact and ensuring there is minimum clearance between the right forward T/R control cable and the roller bracket cut out. Depending on the results, this ASB specifies reporting information to Bell, replacing the cable assembly, and adjusting the height of the roller bracket assembly position.

This service information is reasonably available because the interested parties have access to it through their normal course of business or by the means identified in ADDRESSES.

Other Related Service Information

The FAA reviewed S-TEC Corporation Installation Instructions ST-974-II-0001, Revision 2, dated October 6, 2021. This service information contains information necessary for installing a HeliSAS stability augmentation system and autopilot, including information for adjusting the height of the roller bracket assembly position.

AD Requirements

This AD requires inspecting the right forward T/R control cable in the area of the roller bracket assembly for any signs of chafing and, if there is any chafing, removing the cable assembly from service. This AD also requires measuring the clearance between the right forward T/R control cable and the roller bracket cut out and, depending on the results, adjusting the height of the roller bracket assembly position.

Differences Between This AD and the Service Information

If there is chafing, the ASB specifies reporting certain information to Bell, whereas this AD does not.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the affected components are part of an assembly that is critical to the control of a helicopter. In addition, chafing could lead to instantaneous failure before detection. As the FAA has no information pertaining to the extent of chafing of the right forward T/R control cable that may currently exist in helicopters or how quickly the condition may propagate to failure, the actions required by this AD must be accomplished within 25 hours time-in-service or 30 days, whichever occurs first. This compliance time is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-1066 and Project Identifier AD-2021-01189-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hye Yoon Jang, Aerospace Engineer, Delegation Oversight Section, DSCO Branch, Compliance & Airworthiness Division, FAA, 10101 Hillwood Pkwy., Fort Worth, TX 76177; telephone (817) 222-5190; email hye.yoon.jang@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects up to 76 helicopters of U.S. Registry. Labor rates are estimated at $85 per work-hour. Based on these numbers, the FAA estimates the following costs to comply with this AD.

Inspecting the T/R control cable and measuring the clearance takes about 1 work-hour, for an estimated cost of $85 per helicopter and up to $6,460 for the U.S. fleet. Replacing the cable assembly, if required, takes about 8 work-hours and parts cost about $427 for an estimated cost of $1,107 per helicopter. If required, adjusting the height of the roller bracket assembly position takes about 1 work hour for an estimated cost of $85 per helicopter.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-26-01 Bell Textron Canada Limited: Amendment 39-21859; Docket No. FAA-2021-1066; Project Identifier AD-2021-01189-R.

(a) Effective Date

This airworthiness directive (AD) is effective December 28, 2021.

(b) Affected ADs

None.

(c) Applicability

This AD applies to Bell Textron Canada Limited Model 505 helicopters, serial numbers 65011 through 65234 inclusive, 65236 through 65348 inclusive, 65350, and 65352 through 65359 inclusive, with an S-TEC Corporation HeliSAS stability augmentation system and autopilot installed under Supplemental Type Certificate SR09758DS.

(d) Subject

Joint Aircraft System Component (JASC) Code 6720, Tail Rotor Control System.

(e) Unsafe Condition

This AD was prompted by a report of chafing of the right forward tail rotor (T/R) control cable caused by contact with an autopilot yaw servo bracket. The FAA is issuing this AD to detect and prevent chafing of the T/R control cable. The unsafe condition, if not addressed, could result in failure of the right forward T/R control cable, loss of T/R control, and subsequent loss of control of the helicopter.

(f) Compliance

Comply with this AD within the compliance times specified, unless already done.

(g) Required Actions

Within 25 hours time-in-service or 30 days, whichever occurs first after the effective date of this AD, accomplish the following:

(1) Using a flashlight, visually inspect the right forward T/R control cable assembly part number M207-20M489-041 in the area of the roller bracket assembly for signs of chafing. Move the T/R pedals through the full range of motion and inspect the T/R control cable for chafing. If there is any chafing, before further flight, remove cable assembly part number M207-20M489-041 from service.

(2) Measure the clearance between the right forward T/R control cable and the roller bracket cut out as shown in Figure 1 of Bell Alert Service Bulletin 505-21-27, dated October 7, 2021. If the clearance is less than 0.3″ (7.6 mm), before further flight, adjust the height of the roller bracket assembly position until the clearance is a minimum of 0.3″ (7.6 mm).

(h) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD. Information may be emailed to: 9-ASW-190-COS@faa.gov.

(2) Before using any approved AMOC, notify your appropriate principal inspector, or lacking a principal inspector, the manager of the local flight standards district office/certificate holding district office.

(i) Related Information

For more information about this AD, contact Hye Yoon Jang, Aerospace Engineer, Delegation Oversight Section, DSCO Branch, Compliance & Airworthiness Division, FAA, 10101 Hillwood Pkwy., Fort Worth, TX 76177; telephone (817) 222-5190; email hye.yoon.jang@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Bell Alert Service Bulletin 505-21-27, dated October 7, 2021.

(ii) [Reserved]

(3) For Bell service information identified in this AD, contact Bell Textron Canada Limited, 12,800 Rue de l'Avenir, Mirabel, Quebec J7J 1R4, Canada; telephone 1-450-437-2862 or 1-800-363-8023; fax 1-450-433-0272; email productsupport@bellflight.com; or at https://www.bellflight.com/support/contact-support.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on December 6, 2021.
Ross Landes,
Deputy Director for Regulatory Operations, Compliance & Airworthiness Division, Aircraft Certification Service.

[FR Doc. 2021-27008 Filed 12-9-21; 4:15 pm]

BILLING CODE 4910-13-P